NATIONAL INDIAN GAMING COMMISSION

25 CFR Part 542

RIN 3141-AA27

Minimum Internal Control Standards

AGENCY: National Indian Gaming Commission.

ACTION: Proposed rule revisions; extension of comment period.

SUMMARY: On December 1, 2004, the National Indian Gaming Commission (Commission) issued Proposed rule revisions (69 FR 69847, December 1, 2004) (November 27, 2000) containing corrections and revisions to the Commission's existing regulations establishing minimum internal control standards (MICS) for gaming operations on Indian land and requesting comments prior to publication of a final rule. The date for filing comments is being extended.

DATES: Comments must be received by February 18, 2005.

ADDRESSES: Mail comments to “Comments to First Proposed MICS Rule Revisions, National Indian Gaming Commission, 1441 L Street, NW., Washington, DC 20005, Attn: Vice-Chairman Nelson Westrin. Comments may be submitted by facsimile to Vice-Chairman Westrin at (202) 632-0045, but the original also must be submitted to the above address.

FOR FURTHER INFORMATION CONTACT: Vice-Chairman Nelson Westrin, (202) 632-7003 (not a toll-free number).

SUPPLEMENTARY INFORMATION: In response to the inherent risks of gaming enterprises and the resulting need for effective internal controls in Tribal gaming operations, the National Indian Gaming Commission (Commission or NIGC) first developed Minimum Internal Control Standards (MICS) for Indian gaming in 1999, and revised them in 2002. The Commission recognized from the outset that periodic technical adjustments and revisions would be necessary to keep the MICS effective in protecting Tribal gaming assets and the interests of Tribal stakeholders and the gaming public. To that end, the following proposed rule revisions contain certain proposed corrections and revisions to the Commission's existing MICS, which are necessary to correct erroneous citations or references in the MICS and to clarify, improve, and update other existing MICS provisions. The purpose of these proposed MICS revisions is to address apparent shortcomings in the MICS and various changes in Tribal gaming technology and methods. Public comment to these proposed MICS revisions will be received by the Commission until February 18, 2005. After consideration of all received comments, the Commission will make whatever changes to the proposed revisions that it deems appropriate and then promulgate and publish the final revisions to the Commission's MICS Rule, 25 CFR Part 542.

Signed in Washington, DC, this 5th day of January, 2005.
Philip N. Hogen,
Chairman.
Nelson Westrin,
Vice-Chairman.
Cloyce Choney,
Commissioner.

[FR Doc. 05-448 Filed 1-10-05; 8:45 am]

BILLING CODE 7565-01-P